DEPARTMENT OF EDUCATION

Applications for New Awards; Native American Career and Technical Education Program (NACTEP); Correction

AGENCY: Office of Vocational and Adult Education, Department of Education.

ACTION: Notice; correction.

Catalog of Federal Domestic Assistance (CFDA) Number: 84.101A.

SUMMARY: On February 26, 2013, the Office of Vocational and Adult Education in the U.S. Department of Education published in the Federal Register (78 FR 13030) a notice inviting applications for new awards for fiscal year (FY) 2013 for NACTEP. This notice corrects inconsistent deadlines given for transmittal of the applications. The correct deadline is March 28, 2013.

DATES: Effective March 8, 2013.

SUPPLEMENTARY INFORMATION:

Correction

In the Federal Register of February 26, 2013 (78 FR 13030), on page 13036, in the second column, in section 3, Submission Dates and Times, we correct the Deadline for Transmittal of Applications date caption to read: “Deadline for Transmittal of Applications: March 28, 2013.”

The deadline date for transmittal of applications is correctly stated as March 28, 2013 on page 13031 of the notice. However, on page 13036, the deadline date for transmittal of applications is incorrectly stated as April 12, 2013, rather than the correct date March 28, 2013. We are correcting that error.

Program Authority: 20 U.S.C. 2301, et seq., particularly 2326(a)-(g)).

FOR FURTHER INFORMATION CONTACT: Gwen Washington, U.S. Department of Education, 400 Maryland Avenue SW., room 11076, PCP, Washington, DC 20202-7241. Telephone: (202) 245-7790. Fax: (202) 245-7170 or by email: gwen.washington@ed.gov. Or Linda Mayo, U.S. Department of Education, 400 Maryland Avenue SW., room 11075, PCP, Washington, DC 20202-7241. Telephone: (202) 245-7792. Fax: (202) 245-7170 or by email: linda.mayo@ed.gov.

If you use a telecommunications device for the deaf (TDD) or a text telephone (TTY), call the Federal Relay Service (FRS), toll free, at 1-800-877-8339.

Accessible Format: Individuals with disabilities can obtain this document and a copy of the application package in an accessible format (e.g., braille, large print, audiotape, or compact disc) on request to the program contact persons listed under For Further Information Contact in this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: March 5, 2013.
Brenda Dann-Messier,
Assistant Secretary for Vocational and Adult Education.

[FR Doc. 2013-05493 Filed 3-7-13; 8:45 am]

BILLING CODE 4000-01-P